DEPARTMENT OF COMMERCE

Submission for OMB Review; Comment Request

The Department of Commerce will submit to the Office of Management and Budget (OMB) for clearance the following proposal for collection of information under the emergency provisions of the Paperwork Reduction Act (44 U.S.C. Chapter 35).

Agency: National Telecommunications and Information Administration (NTIA).

Title: Broadband Subscription and Usage Survey (Supplement to the Census Bureau's Current Population Survey).

OMB Control Number: 0660-0021.

Agency Form Number: None.

Type of Request: Emergency submission.

Burden Hours: 581.

Average Time per Response: 38 seconds.

Number of Respondents: 55,000.

Needs and Uses: NTIA proposes to add five questions to the Census Bureau's October 2009 Current Population Survey (CPS) in order to gather reliable data on broadband (also known as high-speed Internet) use by U.S. households. The Administration is committed to providing broadband service to every community in America. To that end, the Administration is working with Congress, NTIA, the Federal Communications Commission, Rural Utilities Service, the States, and other parties to develop and implement economic and regulatory policies that foster broadband deployment. Current, systematic, and comprehensive data on broadband subscription and use by U.S. households is critical to allow policymakers not only to gauge progress made to date, but also to identify problem areas with a specificity that permits carefully targeted and cost effective responses.

The Census Bureau is widely regarded as a superior collector of data based on its centuries of experience and its scientific methods. Collection of NTIA's requested broadband usage data, moreover, will occur in conjunction with Census' scheduled October CPS, thereby significantly reducing the potential burdens on the Bureau and the households surveyed. The questions on Internet usage were included in seven previous Census household surveys.

The need for comprehensive broadband data has become more pressing in recent months and has necessitated this request for expedited review. The General Accountability Office (GAO) recently issued reports noting the lack of useful broadband data for policymakers, and Congress passed legislation—the Broadband Data Improvement Act in 2008 and the American Recovery and Reinvestment Act in 2009—wholly or partly in response to such criticisms. The Organization for Economic Cooperation and Development (OECD) has ranked the United States a disappointing number 18 in household broadband access despite a period of rapid growth in the technology's penetration. The OECD has noted that the user data they are using to benchmark the United States is from 2007 as they have no other current official data from the United States. Modifying the October CPS to include NTIA's requested broadband data will allow the Commerce Department and NTIA to respond to make more informed grant decisions, to respond to Congressional directives, and to work with the OECD on its broadband methodologies with more recent data.

Affected Public: Individuals or households.

Respondent's Obligation: Voluntary.

OMB Desk Officer: Nicholas A. Fraser, (202) 395-5887.

Copies of the above information collection proposal can be obtained by calling or writing Diana Hynek, Departmental Paperwork Clearance officer, (202) 482-0266, Department of Commerce, Room 7845, 14th and Constitution Avenue, NW., Washington, DC 20230.

Written comments and recommendations for the proposed information collection should be sent by August 13, 2009 to Nicholas A. Fraser, OMB Desk Officer, e-mail Nicholas_A._Fraser@omb.eop.gov or Fax number (202) 395-5167.

Dated: July 17, 2009.
Gwellnar Banks,
Management Analyst, Office of the Chief Information Officer.

[FR Doc. E9-17508 Filed 7-22-09; 8:45 am]

BILLING CODE 3510-60-P